DEPARTMENT OF JUSTICE

Office of Justice Programs

Agency Information Collection Activities: Proposed Collection; Comment Request

ACTION: Notice of information collection under review: Revision of a currently approved collection; Deaths in custody, 2001.

Office of Management and Budget (OMB) approval is being sought for the information collection listed below. This proposed information collection was previously published in the Federal Register on May 7, 2001, Volume 66, page 23045 allowing for a 60-day public comment period on this information collection.

The purpose of this notice is to allow an additional 30 days for public comments. Comments are encouraged and will be accepted for “thirty days” until August 30, 2001. This process is conducted in accordance with 5 CFR 1320.10.

Written comments and/or suggestions regarding the item(s) contained in this notice, especially regarding the estimated public burden and associated response time, should be directed to the Office of Management and Budget, Office of Information and Regulatory Affairs, Attn.: Mr. Nathan Knuffman, 202-395-6466, Department of Justice Desk Officer, Room 10235, Office of Management and Budget, Washington, DC 20503. Additionally, comments may be submitted to OMB via facsimile to 202-395-7285.

If you have additional comments, suggestions, or additional information, please send them to Lawrence A. Greenfield, Acting Director, Bureau of Justice Statistics, 810 Seventh St. NW, Washington, DC 20531. If you need a copy of the collection instrument with instructions, or have additional information, please contact Christopher J. Mumola at 202-307-5995, or via facsimile at 202-514-1757.

Written comments and suggestions from the public and affected agencies concerning the proposed collection of information should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

Overview of This Information Collection

(1) Type of information collection: Expansion of existing data collection.

(2) The title of the form/collection: Deaths In Custody 2000; Quarterly Summary of Inmate Deaths in State Prison; State Prison Inmate Death Report Quarterly Summary of Deaths in State Juvenile Residential Facilities; State Juvenile Residential Death Report Quarterly Report on Inmates Under Jail Jurisdiction;

Annual Summary on Inmates Under Jail Jurisdiction; Quarterly Report on Inmates in Private and Multi-Jurisdiction Jails; Annual Summary on Inmates in Private and Multi-Jurisdiction Jails.

(3) The agency form numbers and the applicable component of the Department sponsoring the collection: Forms: NPS-4, NPS-4A, NPS-5, NPS-5A, CJ-9, CJ-9A, CJ-10 and CJ-10A. Corrections Statistics Unit, Bureau of Justice Statistics, Office of Justice Programs, United States Department of Justice.

(4) Affected public who will be asked to respond, as well as a brief abstract:

Primary: Local jail administrators, (one reporter from each of the 3,083 local jail jurisdictions in the United States), State prison administrators (one reporter from each of the 50 States and the District of Columbia) and State juvenile correctional administrators (one reporter from each of the 50 States and the District of Columbia) responsible for keeping records on inmates will be asked to provide information for the following categories:

(a) During each reporting quarter, the number of deaths of persons in their custody; and

(b) As of January 1 and December 31 of each reporting year, the number of male and female inmates in their custody (local jails only); and

(c) Between January 1 and December 31 of each reporting year, the number of male and female inmates admitted to their custody (local jails only); and

(d) The name, date of birth, gender, race/ethnic origin, and date of death for each inmate who died in their custody during each reporting quarter; and

(e) The admission date, legal status, and current offense for each inmate who dies in their custody during the reporting quarter; and

(f) Whether or not an autopsy was conducted by a medical examiner or coroner to determine the cause of each inmate death that took place in their custody during the reporting quarter; and

(g) The location and cause of each inmate death took place in their custody during the reporting quarter; and

(h) In cases where the cause of death was illness/natural causes (including AIDS), whether or not the cause of each inmate death was the result of a pre-existing medical condition, and whether or not the inmate had been receiving treatment for that medical condition; and

(i) In cases where the cause of death was accidental injury, suicide, or homicide, when and where the incident causing the inmates's death took place.

As part of the conference agreement for FY 2000 appropriations, the Bureau of Justice Statistics was directed by the U.S. Congress “to implement a voluntary annual reporting system of all deaths occurring in law enforcement custody.” BJS received OMB approval to conduct such an annual collection (OMB No. 1121-0249). In the time since submitting that collection for OMB approval, the President signed The Deaths in Custody Act of 2000 into law (Pub. L. 106-297). To comply with Public Law 106-297's new requirement for a quarterly collection of inmate death data from local jails, State prisons, juvenile facilities and police custody, BJS is now submitting for clearance the following series of forms: NPS-4, NPS-4A, NPS-5, NPS-5A, CJ-9, CJ-9A, CJ-10, and CJ-10A. This collection will supplement the annual data on prison inmate deaths which the Bureau of Justice Statistics already collects as part of the National Prisoners Statistics program and the National Corrections Reporting Program. The Bureau of Justice Statistics will use this new information to publish an annual report on deaths in custody. The report will be made available to the U.S. Congress, Executive Office of the President, practitioners, researchers, students, the media, and others interested in criminal justice statistics and data.

(5) An estimate of the total number of respondents and the amount of time needed for an average respondent to respond is broken down as follows:

Local jails/quarterly—3,083 respondents (average response time = 5 minutes + 30 minutes per reported death)

Local jails/annual—3,083 respondents (average response time = 15 minutes)

State prisons/quarterly—51 respondents (average response time = 5 minutes)

State prisons addendum/quarterly—51 respondents (average response time = 30 minutes per reported death)

State juvenile corrections/quarterly—51 respondents (average response time = 5 minutes)

State juvenile corrections addendum/quarterly—51 respondents (average response time = 30 minutes per reported death)

(6) An estimate of the total public burden (in hours) associated with the collection:

There are 3,802.42 annual burden hours associated with this information collection.

If additional information is required, contact: Mrs. Brenda E. Dyer, Deputy Clearance Officer, United States Department of Justice, Information Management and Security Staff, Justice Management Division, Suite 1600, Patrick Henry Building, 601 D Street NW., Washington, DC 20530.

Dated: July 20, 2001.
Brenda E. Dyer,
Department Deputy Clearance Officer, Department of Justice.

[FR Doc. 01-19057 Filed 7-30-01; 8:45 am]

BILLING CODE 4410-18-M